DEPARTMENT OF THE INTERIOR

National Park Service

National Register of Historic Places; Notification of Pending Nominations

Nominations for the following properties being considered for listing in the National Register were received by the National Park Service before December 16, 2000. Pursuant to section 60.13 of 36 CFR part 60 written comments concerning the significance of these properties under the National Register criteria for evaluation may be forwarded to the National Register, National Park Service, 1849 C St. NW, NC400, Washington, DC 20240. Written comments should be submitted by January 11, 2001.

Carol D. Shull,
Keeper of the National Register.

Arkansas

Faulkner County:

Robinson, Asa P., Historic District, Roughly bounded by Cross, Prince, Faulkner, and Watkins Sts., and Robinson Ave., Conway, 00001645

California

Riverside County:

San Timoteo Canyon Schoolhouse, 31985 San Timoteo Canyon Rd., Redlands, 00001646

Colorado

Denver County:

Chamber of Commerce Building, 1726 Champa St., Denver, 00001647

Fremont County:

South Canon High School, 1020 Park Ave., Canon City, 00001648

Connecticut

Tolland County:

Farwell Barn, Horsebarn Hill Rd., Mansfield, 00001649

Florida

Sarasota County:

Harding Circle Historic District, Roughly, John Ringling Blvd., St. Armands Cir., and Blvd. of Presidents, Sarasota, 00001650

Iowa

Black Hawk County:

Bennington No. 4, Jct. of Bennington and Sage Rds., Waterloo, 00001651

Clay County:

Logan Center School No.5, Jct. of 420th St. and 310th Ave., Dickens, 00001652

Johnson County:

Stone Academy, IA 1, 2 mi. N. of Solon, Solon, 00001653

Jones County:

Antioch School, IA 64, 4 mi. E. of Anamosa, Anamosa, 00001654

Monona County:

Mann School No. 2, Oak Ave, 3.5 mi. NW of Preparation Canyon State Park entrance, Moorhead, 00001655

Massachusetts

Barnstable County:

Fort Hill Rural Historic District, Fort Hill Rd, Cape Cod National Seashore, Eastham, 00001656

Hampshire County:

Lockville Historic District, College Hwy., Southampton, 00001657

Missouri

Adair County:

Smith, Orie J., Black and White Stock Farm Historic District, .5 mi. SE of Jct. of MO P and Co. Rd. 129B, Kirksville, 00001658

Linn County:

Linn County Jail and Sheriff's Residence, 102 N. Main St., Linneus, 00001659

Nebraska

Madison County:

Skala House, Town Park, Battle Creek, 00001660

New York

Otsego County:

West Burlington Memorial Church, NY 80, West Burlington, 00001661

Ohio

Cuyahoga County:

Federal Knitting Mills Building, 2860-2894 Detroit Ave., Cleveland, 00001662

Lorain County:

Elyria Downtown—West Avenue Historic District, (Elyria MRA), Roughly bounded by Railroad, East Ave, 5th St. and West Ave., Elyria, 00001663

Texas

Fayette County:

Fayette County Courthouse Square Historic District, Roughly bounded by Main, Lafayette, Franklin, Colorado, Jefferson, Washington, and Crockett Sts., La Grange, 00001664

Harris County:

Union Transfer and Storage Building, 1113 Vine St., Houston, 00001665

Virginia

Albemarle County:

Mount Ida, VA 795, Scottsville, 00001666

Richmond Independent city:

West Broad Street Commercial Historic District, 1300-1600 West Broad St., Richmond, 00001667

Wisconsin

Eau Claire County:

Gikling, Gilbert, House, 421 Talmadge St., Eau Claire, 00001668

Eau Claire County:

Oatman Filling Station, 102 Ferry St., Eau Claire, 00001669

Schwahn, William and Tilla, 447 McKinley Ave., Eau Claire, 00001670

Werner, Dr. Nels, House, 443 Roosevelt Ave., Eau Claire, 00001671

Wyoming

Niobrara County:

C and H Refinery Historic District, 402 W. 8th St., Lusk, 00001672

[FR Doc. 00-32921 Filed 12-26-00; 8:45 am]

BILLING CODE 4310-70-P